NATIONAL AERONAUTICS AND SPACE ADMINISTRATION

[Notice (09-092)]

Performance Review Board, Senior Executive Service (SES)

AGENCY: National Aeronautics and Space Administration (NASA).

ACTION: Notice of Membership of SES Performance Review Board.

SUMMARY: The Civil Service Reform Act of 1978, Public Law 95-454 (Section 405) requires that appointments of individual members to a Performance Review Board (PRB) be published in the Federal Register.

The performance review function for the SES in NASA is being performed by the NASA PRB and the NASA Senior Executive Committee. The latter performs this function for senior executives who report directly to the Administrator or the Deputy Administrator and members of the PRB. The following individuals are serving on the Board and the Committee:

Performance Review Board

Chairperson, Associate Administrator, NASA Headquarters.

Executive Secretary, Director, Workforce Management and Development Division, NASA Headquarters.

Associate Deputy Administrator, NASA Headquarters.

Associate Administrator for Exploration Systems Mission Directorate, NASA Headquarters.

Associate Administrator for Space Operations Mission Directorate, NASA Headquarters.

Associate Administrator for Science Mission Directorate, NASA Headquarters.

Associate Administrator for Aeronautics Research Mission Directorate, NASA Headquarters.

Associate Administrator for Institutions and Management, NASA Headquarters.

Assistant Administrator for Diversity and Equal Opportunity, NASA Headquarters.

Assistant Administrator for Human Capital Management, NASA Headquarters.

Associate Administrator for Program Analysis and Evaluation, NASA Headquarters.

Chief Engineer, NASA Headquarters.

General Counsel, NASA Headquarters.

Director, Ames Research Center.

Director, Dryden Flight Research Center.

Director, Glenn Research Center.

Director, Goddard Space Flight Center.

Director, Johnson Space Center.

Director, Kennedy Space Center.

Director, Langley Research Center.

Director, Marshall Space Flight Center.

Director, Stennis Space Center.

Senior Executive Committee

Chairperson, Deputy Administrator, NASA Headquarters.

Chair, Executive Resources Board, NASA Headquarters.

Chair, NASA Performance Review Board, NASA Headquarters.

Chief of Staff, NASA Headquarters.

Associate Deputy Administrator, NASA Headquarters.

Chief, Safety and Mission Assurance, NASA Headquarters.

Charles F. Bolden, Jr.,
Administrator.

[FR Doc. E9-25579 Filed 10-22-09; 8:45 am]

BILLING CODE P